NUCLEAR REGULATORY COMMISSION

[RIS-2016-06; NRC-2011-0146]

NRC Regulation of Radium-226 Under Military Control and for Coordination on Comprehensive Environmental Response, Compensation and Liability Act Response Actions at the U.S. Department of Defense Sites With Radioactive Materials

AGENCY: Nuclear Regulatory Commission.

ACTION: Regulatory issue summary; issuance.

SUMMARY: The U.S. Nuclear Regulatory Commission (NRC) has issued a regulatory issues summary (RIS) NRC-2016-06, “NRC Regulation of Radium-226 Under Military Control and for Coordination on Comprehensive Environmental Response, Compensation and Liability Act (CERCLA) Response Actions at the U.S. Department of Defense (DoD) Sites with Radioactive Materials,” and a Memorandum of Understanding (MOU) between the NRC and the DoD for coordination on CERCLA response actions at DoD sites with unlicensed radioactive materials.

DATES: This RIS was issued on May 9, 2016.

ADDRESSES: Please refer to Docket ID NRC-2011-0146 when contacting the NRC about the availability of information regarding these documents. You may obtain publicly-available information related to these documents using any of the following methods:

• Federal Rulemaking Web site: Go to http://www.regulations.gov and search for Docket ID NRC-2011-0146. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

• The RIS is also available on the NRC's public Web site at http://www.nrc.gov/reading-rm/doc-collections/gen-comm/reg-issues/ (select 2016 and then select “RIS-2016-06”).

• The MOU is also available on the NRC's public Web site at http://www.nrc.gov/docs/ML1609/ML16092A294.pdf.

FOR FURTHER INFORMATION CONTACT: Richard Chang, Office of Nuclear Material Safety and Safeguards, U.S. Nuclear Regulatory Commission, Washington, DC 20555-0001; telephone: 301-415-5563; email: Richard.Chang@nrc.gov.

SUPPLEMENTARY INFORMATION:

I. Discussion

The RIS summarizes the NRC's regulatory oversight of radium-226 under military control, and explains that the NRC and the DoD will coordinate on CERCLA response actions at the DoD sites with radioactive material, including radium, that is not licensed under the Atomic Energy Act of 1954, as amended (AEA) through an MOU. On April 28, 2016, the NRC and the DoD entered into an MOU that governs both agencies' roles and responsibilities with respect to the DoD's CERCLA response actions for radium contamination and other unlicensed material contamination.

The final RIS and an enclosure containing a summary of public comments on the draft RIS and NRC's responses are available in ADAMS under Accession No. ML15167A324. The MOU is available in ADAMS under Accession No. ML16092A294.

II. Congressional Review Act

This RIS is a rule as defined in the Congressional Review Act (5 U.S.C. 801-808). However, the Office of Management and Budget has not found it to be a major rule as defined in the Congressional Review Act.

Dated at Rockville, Maryland, this 13th day of May 2016.
For the Nuclear Regulatory Commission.
Christepher McKenney,
Acting Director, Division of Decommissioning, Uranium Recovery, and Waste Programs, Office of Nuclear Material Safety and Safeguards.

[FR Doc. 2016-11825 Filed 5-18-16; 8:45 am]

BILLING CODE 7590-01-P